DEPARTMENT OF HOMELAND SECURITY

Coast Guard

[Docket No. USCG-2008-0856]

National Maritime Security Advisory Committee; Meeting

AGENCY: Coast Guard, DHS.

ACTION: Notice of meeting.

SUMMARY: The National Maritime Security Advisory Committee (NMSAC) will meet in Washington, DC to discuss various issues relating to national maritime security. This meeting will be open to the public.

DATES: The Committee will meet on Thursday, September 18, 2008 from 9 a.m. to 4 p.m. This meeting may close early if all business is finished. Written material and requests to make oral presentations should reach the Coast Guard on or before September 15, 2008. Requests to have a copy of your material distributed to each member of the committee should reach the Coast Guard on or before September 15, 2008.

ADDRESSES: The Committee will meet at the Association of American Railroads Conference Center, Conference Room C, 50 F Street, NW., 4th Floor, Washington, DC 20001. Additionally, this meeting will be broadcast via a web enabled interactive online format. Send written material and requests to make oral presentations to Mr. Ryan Owens, Assistant to Designated Federal Officer of the National Maritime Security Advisory Committee, 2100 2nd Street, SW.; Room 5302; Washington, DC 20593. You may also e-mail material to ryan.f.owens@uscg.mil. This notice may be viewed in our online docket, USCG-2008-0856, at http://www.regulations.gov.

FOR FURTHER INFORMATION CONTACT: Mr. Ryan Owens, Assistant to DFO of NMSAC, telephone 202-372-1108 or ryan.f.owens@uscg.mil.

SUPPLEMENTARY INFORMATION: Notice of this meeting is given under the Federal Advisory Committee Act, 5 U.S.C. App. (Pub. L. 92-463).

Agenda of Meeting

The agenda for the September 18, 2008 Committee meeting is as follows:

(1) Briefing on Sensitive Security Information.

(2) Presentation and Discussion of the Seafarer's Access Working Group report.

(3) Briefing and discussion on the USCG/CBP Senior Guidance Team.

(4) Briefing and Discussion on the USCG/CBP Joint Command Center Initiatives.

Procedural

This meeting is open to the public and will also be conducted via an online meeting format. Please note that the meeting may close early if all business is finished. Seating is very limited, and members of the public wishing to attend should register with Mr. Ryan Owens, Assistant to DFO of NMSAC, telephone 202-372-1108 or ryan.f.owens@uscg.mil no later than September 15, 2008. Additionally, if you would like to participate in this meeting via the online web format, please log onto https://fedgov.webex.com/fedgov/onstage/g.php?t=a&d=697687813 and follow the online instructions to register for this meeting. At the Chair's discretion, members of the public may make oral presentations during the meeting. If you would like to make an oral presentation at a meeting, please notify the assistant to the DFO no later than Monday, September 8, 2008. Written material for distribution at a meeting should reach the Coast Guard no later than Monday, September 15, 2008. If you would like a copy of your material distributed to each member of the committee in advance of a meeting, please submit 25 copies to the assistant to the DFO no later than September 15, 2008.

Information on Services for Individuals With Disabilities

For information on facilities or services for individuals with disabilities or to request special assistance at the meeting, contact the assistant to the DFO as soon as possible.

Dated: August 28, 2008.
Mark P. O'Malley,
Captain, U.S. Coast Guard, Chief, Office of Port and Facility Activities, Designated Federal Official, NMSAC.

[FR Doc. E8-20482 Filed 9-3-08; 8:45 am]

BILLING CODE 4910-15-P